FEDERAL COMMUNICATIONS COMMISSION

Sunshine Act Meeting; Schedule Change; FCC To Hold Open Commission Meeting, Wednesday, December 11, 2002

December 10, 2002.

Please note that the time for the Federal Communications Commission Open Meeting is rescheduled from 9:30 a.m. to 1:30 p.m.

The Federal Communications Commission will hold an Open Meeting on the subjects listed below on Wednesday, December 11, 2002, which is scheduled to commence at 1:30 p.m. in Room TW-C305, at 445 12th Street, SW., Washington, DC.

Item No. | Bureau | Subject
1 | Wireless Tele-Communications | The Wireless Telecommunications Bureau will report on the status of unintentional wireless 911 calls.
2 | Wireless Tele-Communications | Title: Facilitating the Provisions of Spectrum-Based Services to Rural Areas and Promoting Opportunities for Rural Telephone Companies to Provide Spectrum-Based Services.
|  | Summary: The Commission will consider a Notice of Inquiry that would seek comment on the effectiveness of current regulatory tools in facilitating the delivery of spectrum-based services to rural areas and the extent to which rural telephone companies and other entities seeking to serve rural areas have opportunities to provide spectrum-based services.
3 | Wireless Tele-Communications | Title: Revisions of the Commission's Rules to Ensure Compatibility with Enhanced 911 Emergency Calling Systems (CC Docket No. 94-102); Amendment of Parts 2 and 25 to Implement the Global Mobile Personal Communications by Satellite (GMPCS) Memorandum of Understanding and Arrangements; Petition of the National Telecommunications and Information Administration to Amend Part 25 of the Commission's Rules to Establish Emissions Limits for Mobile and Portable Earth Stations Operating in the 1610-1660.5 MHz Band (IB Docket No. 99-67).
|  | Summary: The Commission will consider a Further Notice of Proposed Rulemaking concerning access to emergency services from services and devices that may not be currently within the scope of the Commission's E911 rules.
4 | Wireless Tele-Communications | Title: Implementation of Section 6002(b) of the Omnibus Budget Reconciliation Act of 1993; Annual Report and Analysis of Competitive Market Conditions with Respect to Commercial Mobile Services.
|  | Summary: The Commission will consider a Notice of Inquiry seeking information that can be used to analyze the status of competition in the CMRS industry for purpose of its Eighth Report and Analysis of Competitive Market Conditions with Respect to Commercial Mobile Services.
5 | Office of Engineering and Technology | Title: Additional Spectrum for Unlicensed Devices Below 900 MHz and in the 3 GHz Band.
|  | Summary: The Commission will consider a Notice of Inquiry concerning the possibility of permitting unlicensed transmitters to operate in additional frequency bands.

Additional information concerning this meeting may be obtained from Maureen Peratino or David Fiske, Office of Media Relations, telephone number (202) 418-0500; TTY 1-888-835-5322.

Copies of materials adopted at this meeting can be purchased from the FCC's duplicating contractor, Qualex International (202) 863-2893; Fax (202) 863-2898; TTY (202) 863-2897. These copies are available in paper format and alternative media, including large print/type; digital disk; and audio tape. Qualex International may be reached by e-mail at Qualexint@aol.com.

This meeting can be viewed over George Mason University's Capitol Connection. The Capitol Connection also will carry the meeting live via the Internet. For information on these services call (703) 993-3100. Audio/Video coverage of the meeting will be broadcast live over the Internet from the FCC's Audio/Video Events web page at www.fcc.gov/realaudio. Audio and video tapes of this meeting can be purchased from CACI Productions, 341 Victory Drive, Herndon, VA 20170, telephone number (703) 834-1470, Ext. 19; fax number (703) 834-0111.

Federal Communications Commission.
Marlene H. Dortch,
Secretary.

[FR Doc. 02-31713 Filed 12-12-02; 2:40 pm]

BILLING CODE 6712-01-U